NATIONAL SCIENCE FOUNDATION

Proposal Review Panel for Materials Research; Notice of Meeting

In accordance with the Federal Advisory Committee Act (Pub. L. 92- 463, as amended), the National Science Foundation (NSF) announces the following meeting:

Name and Committee Code: Proposal Review Panel for Materials Research (DMR) (#1203)—Science and Technology Center on Real-Time Functional Imaging (STROBE) (Site Visit)

Date and Time:

September 24, 2018; 8:00 a.m.-8:00 p.m.

September 25, 2018; 8:00 a.m.-4:00 p.m.

Place: University of Colorado—Boulder, Sustainability, Energy and Environment Complex, CU Boulder East Campus, Boulder, Colorado 80303.

Type of Meeting: Part Open.

Contact Person: Dr. Charles Ying, Program Director, Division of Materials Research, National Science Foundation, 2415 Eisenhower Avenue, Alexandria, VA 22314, Telephone (703) 292-8428.

Purpose of Meeting: Site visit to provide advice and recommendations concerning further support of the Science and Technology Center (STC).

Agenda

Monday, September 24, 2018

8:00 a.m.-11:00 a.m. Open—Review of STROBE STC

11:00 a.m.-8:00 p.m. Closed—Executive Session

Tuesday, September 25, 2018

8:00 a.m.-4:00 p.m. Closed—Executive Session

Reason for Closing: The work being reviewed during closed portions of the site review includes information of a proprietary or confidential nature, including technical information; and information on personnel. These matters are exempt under 5 U.S.C. 552b(c), (4) and (6) of the Government in the Sunshine Act.

Dated: August 20, 2018.
Crystal Robinson,
Committee Management Officer.

[FR Doc. 2018-18220 Filed 8-22-18; 8:45 am]

BILLING CODE 7555-01-P